DEPARTMENT OF ENERGY

Federal Energy Regulatory Commission

[Docket No. ES01-32-000, et al.]

North West Rural Electric Cooperative, et al.; Electric Rate and Corporate Regulation Filings

May 8, 2001.

Take notice that the following filings have been made with the Commission:

1. North West Rural Electric Cooperative

[Docket No. ES01-32-000]

Take notice that on April 30, 2001, North West Rural Electric Cooperative (North West) submitted an application pursuant to section 204 of the Federal Power Act seeking authorization to make long-term borrowings in an amount not to exceed $13,500,000 under a revolving line of credit agreement with the National Rural Utilities Cooperative Finance Corporation.

North West also requests a waiver of the Commission's competitive bidding and negotiated placement requirements at 18 CFR 34.2.

Comment date: May 25, 2001, in accordance with Standard Paragraph E at the end of this notice.

2. Allegheny Energy Service Corporation on behalf on Monongahela Power Company, The Potomac Edison Company and West Penn Power Company (Allegheny)

[Docket No. ER01-1223-001]

Take notice that on May 3, 2001, Allegheny Energy Service Corporation on behalf on Monongahela Power Company, The Potomac Edison Company and West Penn Power Company (Allegheny Power) tendered for filing Revisions to its Open Access Transmission Tariff in compliance with the Commission's Order of April 12, 2001 at Docket No. ER01-1223-000, 95 FERC 61,045.

Copies of the filing have been provided to jurisdictional customers the Public Utilities Commission of Ohio, the Pennsylvania Public Utility Commission, the Maryland Public Service Commission, the Virginia State Corporation Commission, and the West Virginia Public Service Commission.

Comment date: May 24, 2001, in accordance with Standard Paragraph E at the end of this notice.

3. Cinergy Capital & Trading, Inc.

[Docket No. ER01-1337-002]

Take notice that on May 3, 2001, Cinergy Capital & Trading, Inc. tendered for filing a compliance filing to its notice of change in status to reflect its pending acquisition of Brownsville Power I, L.L.C. and Caledonia Power I, L.L.C., and amendments to its market-based rate tariff and code of conduct.

Comment date: May 24, 2001, in accordance with Standard Paragraph E at the end of this notice.

4. Cinergy Services, Inc.

[Docket No. ER01-1820-001]

Take notice that on May 3, 2001, Cinergy Services, Inc. (Cinergy Services), on behalf of The Cincinnati Gas & Electric Co. (CG&E) and PSI Energy, Inc. (PSI) (together, the Operating Companies) tendered for filing an errata filing to its April 18, 2001 short-form market-based rate tariff (Proposed MR Tariff) filing. The proposed market based rate tariff does not replace Cinergy Services's existing market-based rate tariff, FERC Electric Tariff, Original Volume No. 7. Cinergy Services requests waiver of the Commission's notice of filing requirements to allow the proposed tariff to become effective on April 19, 2001, the day after filing.

Cinergy Services has served this filing upon the Indiana Utility Regulatory Commission, the Kentucky Public Service Commission, and the Public Utilities Commission of Ohio.

Comment date: May 24, 2001, in accordance with Standard Paragraph E at the end of this notice.

5. New York State Electric & Gas Corporation

[Docket No. ER01-1950-000]

Take notice that on May 3, 2001, New York State Electric & Gas Corporation (NYSEG) tendered for filing a fully executed service agreement (Service Agreement) between NYSEG and UGI Utilities, Inc. (UGI) pursuant to Section 35.13 of the Commission's Regulations, 18 C.F.R. § 35.13 (1998). Under the Service Agreement, NYSEG may provide capacity and/or energy to UGI in accordance with NYSEG's FERC Electric Tariff, Original Volume No. 3.

NYSEG has requested that the Commission accept the fully executed Service Agreement and that the Service Agreement become effective as of May 4, 2001. NYSEG has served a copy of this filing upon the New York State Public Service Commission and UGI.

Comment date: May 24, 2001, in accordance with Standard Paragraph E at the end of this notice.

6. Entergy Services, Inc.

[Docket No. ER01-1951-000]

Take notice that on May 3, 2001, Entergy Services, Inc. (Entergy Services), as agent for Entergy Arkansas, Inc., Entergy Gulf States, Inc., Entergy Louisiana, Inc., Entergy Mississippi, Inc., and Entergy New Orleans, Inc. (collectively, the Entergy Operating Companies), tendered for filing its 2001 annual rate redetermination update (Update) in accordance with the Open Access Transmission Tariff filed in compliance with FERC Order No. 888 in Docket No. OA96-158-000.

Entergy Services states that the Update redetermines the formula rate in accordance with the annual rate redetermination provisions of Appendix 1 to Attachment H and Appendix A to Schedule 7.

Comment date: May 24, 2001, in accordance with Standard Paragraph E at the end of this notice.

7. Allegheny Energy Service Corporation on behalf of Monongahela Power Company, The Potomac Edison Company and West Penn Power Company (Allegheny)

[Docket No. ER01-1952-000]

Take notice that on May 3, 2001, Allegheny Energy Service Corporation on behalf on Monongahela Power Company, The Potomac Edison Company and West Penn Power Company (Allegheny Power) tendered for filing Second Revised Sheet No. 115 to its Open Access Transmission Tariff to offer Next Hour Market Service. Third Revised Sheet Nos. 193 through 214 and Second Revised Sheet Nos. 215 through 223 to include the latest Transmission Loading Relief Procedures adopted by the North American Electric Reliability Council, and Fourth Revised Sheet No. 173, Third Revised Sheet No. 175B and Original Sheet No. 190D to update the list of Customers detailed within Attachments E and I.

Copies of the filing have been provided to jurisdictional customers and to the Public Utilities Commission of Ohio, the Pennsylvania Public Utility Commission, the Maryland Public Service Commission, the Virginia State Corporation Commission, and the West Virginia Public Service Commission.

Comment date: May 24, 2001, in accordance with Standard Paragraph E at the end of this notice.

8. California Independent System Operator Corporation

[Docket No. ER01-1954-000]

Take notice that on May 3, 2001, the California Independent System Operator Corporation, tendered for filing a Meter Service Agreement for ISO Metered Entities between the ISO and POSDEF Power Company, L.P. for acceptance by the Commission.

The ISO states that this filing has been served on POSDEF Power Company, L.P. and the California Public Utilities Commission.

The ISO is requesting waiver of the 60-day notice requirement to allow the Meter Service Agreement for ISO Metered Entities to be made effective April 25, 2001.

Comment date: May 24, 2001, in accordance with Standard Paragraph E at the end of this notice.

9. California Independent System Corporation Operator

[Docket No. ER01-1955-000]

Take notice that on May 3, 2001, the California Independent System Operator Corporation, tendered for filing a Meter Service Agreement for ISO Metered Entities between the ISO and POSDEF Power Company, L.P. for acceptance by the Commission.

The ISO states that this filing has been served on POSDEF Power Company, L.P. and the California Public Utilities Commission.

The ISO is requesting waiver of the 60-day notice requirement to allow the Meter Service Agreement for ISO Metered Entities to be made effective April 25, 2001.

Comment date: May 24, 2001, in accordance with Standard Paragraph E at the end of this notice.

10. California Independent System Operator Corporation

[Docket No. ER01-1956-000]

Take notice that on May 3, 2001, the California Independent System Operator Corporation, tendered for filing a Participating Generator Agreement between the ISO and POSDEF Power Company, L.P. for acceptance by the Commission.

The ISO states that this filing has been served on POSDEF Power Company, L.P. and the California Public Utilities Commission.

The ISO is requesting waiver of the 60-day notice requirement to allow the Participating Generator Agreement to be made effective April 25, 2001.

Comment date: May 24, 2001, in accordance with Standard Paragraph E at the end of this notice.

11. California Independent System Operator

[Docket No. ER01-1957-000]

Take notice that on May 3, 2001, the California Independent System Operator Corporation (ISO), tendered for filing a Scheduling Coordinator Agreement between the ISO and Tucson Electric Power Company for acceptance by the Commission.

The ISO states that this filing has been served on Tucson Electric Power Company and the California Public Utilities Commission.

The ISO is requesting waiver of the 60-day notice requirement to allow the Scheduling Coordinator Agreement to be made effective as of April 16, 2001.

Comment date: May 24, 2001, in accordance with Standard Paragraph E at the end of this notice.

12. Great Bay Power Corporation

[Docket No. ER01-1960-000]

Take notice that on May 3, 2001, Great Bay Power Corporation (Great Bay) tendered for filing a service agreement between Burlington Electric Department and Great Bay for service under Great Bay's revised Market-Based Rate Power Sales Tariff Volume No. 2 (Tariff). This Tariff was accepted for filing by the Commission on May 31, 2000, in Docket No. ER00-2211-000. The service agreement is proposed to be effective April 1, 2001.

Comment date: May 24, 2001, in accordance with Standard Paragraph E at the end of this notice.

13. Gauley River Power Partners, L.P.

[Docket No. ER01-1964-000]

Take notice that on May 3, 2001, Gauley River Power Partners, L.P. (GRPP) tendered for filing for acceptance of GRPP Rate Schedule FERC No. 1; the granting of certain blanket approvals, including the authority to sell electricity at market-based rates; and the waiver of certain Commission regulations.

Comment date: May 24, 2001, in accordance with Standard Paragraph E at the end of this notice.

14. Commonwealth Edison Company

[Docket No. ER01-1965-000]

Take notice that on May 3, 2001, Commonwealth Edison Company (ComEd), tendered for filing a request, consistent with last year's authorization (Notice of Interim Procedures to Support Industry Reliability Efforts, 91 FERC ¶61,189 (2000)), to purchase power using a streamlined regulatory process from entities with small amounts of electric energy to sell that become public utilities under the Federal Power Act when they make electric wholesale sales.

ComEd requests authorization for the use of the streamlined regulatory procedures for the period from June 1, 2001 to September 30, 2001.

Comment date: May 24, 2001, in accordance with Standard Paragraph E at the end of this notice.

15. Cleco Evangeline LLC

[Docket No. ER01-1971-000]

Take notice that on May 1, 2001, Cleco Evangeline LLC (Cleco Evangeline), tendered for filing proposed changes in its Rate Schedule FERC No. 1. The proposed changes would allow Cleco Evangeline to make wholesale sales under FERC Rate Schedules No.1 to any affiliate that is not a franchised utility. The rate schedule designations have been amended to comply with the Federal Energy Regulatory Commission's (Commission) Order 614.

The request to amend Cleco Evangeline's Rate Schedule FERC No. 1 is made pursuant to Commission's precedent established in DTE Edison America, Inc., 84 FERC ¶61,197 (1998), PG&E Corporation and Valero Energy Corporation, 80 FERC ¶61,041 (1997), and USGen Power Services, L.P., 73 FERC ¶61, 302 (1995), whereby, power marketers were permitted to make sales under their market based rates tariff to any affiliate that is not a franchised utility.

Comment date: May 24, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12144 Filed 5-14-01; 8:45 am]

BILLING CODE 6717-01-P